DEPARTMENT OF THE TREASURY

Public Meeting of the President's Advisory Panel on Federal Tax Reform

AGENCY: Department of the Treasury.

ACTION: Notice of meeting.

SUMMARY: This notice advises all interested persons of a public meeting of the President's Advisory Panel on Federal Tax Reform.

DATES: The meeting will be held on Thursday, March 3, 2005, at 9:30 a.m.

ADDRESSES: The meeting will be held at the Jack Morton Auditorium, Media and Public Affairs Building, The George Washington University, 805 21st Street, NW., Washington, DC 20052. Seating will be available to the public on a first-come, first-served basis.

FOR FURTHER INFORMATION CONTACT: The Panel staff at (202) 927-2TAX (927-2829) (not a toll-free call) or e-mail info@taxreformpanel.gov (please do not send comments to this box; a comment box will be available shortly). Additional information is available at http://www.taxreformpanel.gov.

SUPPLEMENTARY INFORMATION: Purpose: This is the second meeting of the Advisory Panel. The meeting will be focused on understanding problems presented by the tax system, including its complexity and the impact of complexity on overall compliance.

Comments: Interested parties are invited to attend the meeting; however, no public comments will be heard at this meeting. The public will be invited to submit comments regarding specific issues of tax reform at later dates. Any written comments with respect to this meeting may be mailed to the President's Advisory Panel on Federal Tax Reform, 1440 New York Avenue, NW., Suite 2100, Washington, DC 20220. All written comments will be made available to the public.

Records: Records are being kept of Advisory Panel proceedings and will be available at the Internal Revenue Service's FOIA Reading Room at 1111 Constitution Avenue, NW., Room 1621, Washington, DC 20024. The Reading Room is open to the public from 9 a.m. to 4 p.m., Monday through Friday except holidays. The public entrance to the reading room is on Pennsylvania Avenue between 10th and 12th streets. The phone number is (202) 622-5164 (not a toll-free number). Advisory Panel documents, including meeting announcements, agendas, and minutes, will also be available on http://www.taxreformpanel.gov.

Dated: February 14, 2005.
Mark S. Kaizen,
Designated Federal Officer.

[FR Doc. 05-3086 Filed 2-15-05; 8:45 am]

BILLING CODE 4810-25-P